DEPARTMENT OF HOMELAND SECURITY

Coast Guard

33 CFR Part 117

[Docket No. USCG-2017-0959]

Drawbridge Operation Regulation; Grand Lake, Calcasieu Parish, Louisiana

AGENCY: Coast Guard, DHS.

ACTION: Notice of deviation from drawbridge regulation.

SUMMARY: The Coast Guard has issued a temporary deviation from the operating schedule that governs the Black Bayou Pontoon Bridge on State Road 384 across the Gulf Intracoastal Waterway (GIWW) at mile marker (MM) 237.5, West of Harvey Locks (WHL) at Grand Lake, Calcasieu Parish, Louisiana. The deviation is necessary to make extensive repairs to the bridge.

DATES: This deviation is effective without actual notice from October 16, 2017 until December 20, 2017. For the purposes of enforcement, actual notice will be used from October 9, 2017 until October 16, 2017.

ADDRESSES: The docket for this deviation, USCG-2017-0959 is available at http://www.regulations.gov. Type the docket number in the “SEARCH” box and click “SEARCH”. Click on Open Docket Folder on the line associated with this deviation.

FOR FURTHER INFORMATION CONTACT: If you have questions on this temporary deviation, call or email Douglas Blakemore, Bridge Administration Branch, Coast Guard; telephone 504-671-2128, email Douglas.A.Blakemore@uscg.mil.

SUPPLEMENTARY INFORMATION: Louisiana Department of Transportation and Development (LA-DOTD) has requested to change the operating schedule that governs the Black Bayou Pontoon Bridge on State Road 384 across the Gulf Intracoastal Waterway (GIWW) mile 237.5 West of Harvey Locks (WHL) at Grand Lake, Calcasieu Parish, Louisiana. Closures to navigation traffic are required to make extensive repairs to the bridge protective system, tower and mechanical systems. This bridge operates under 33 CFR 117.5.

This deviation allows the bridge to close to vessel traffic during specific dates and times from October 9, 2017 through December 20, 2017 as follows: October 9-10, 2017 from 7 a.m. to 7 p.m.; October 18-19, 2017 from 7 a.m. to 7 p.m.; October 23-26 from 8:30 a.m. to 7 p.m.; October 30-31, 2017 from 8:30 a.m. to 7 p.m.; November 7, 2017 from 7 a.m. to 7 p.m.; November 17-18, 2017 from 8 a.m. to 7 p.m.; November 20-22 from 8 a.m. to 7 p.m.; November 27, 2017 from 8 a.m. to 7 p.m.; November 28-30, 2017 from 8 a.m. to 7 p.m.; December 1-2, 2017 from 8 a.m. to 7 p.m.; December 4-7, 2017 from 8 a.m. to 7 p.m.; December 11-12, 2017 from 8 a.m. to 7 p.m.; December 13, 2017 from 7 a.m. to 7 p.m.; December 14-16, 2017 from 8 a.m. to 7 p.m.; December 18-19, 2017 from 8 a.m. to 7 p.m.

During the above periods of closures, vessels will not be able to pass through the bridge.

Navigation at the site primarily consists of tugs and tows. The bridge will be able to open to vessel traffic during emergencies. The Coast Guard will inform waterways users of the bridge closures through Local and Broadcast Notices to Mariners so that vessel operators can arrange their transits to minimize any impact caused by the temporary deviation.

In accordance with 33 CFR 117.35(e) the drawbridge will return to its regular operating schedule immediately at the end of the effective period of this temporary deviation. This deviation from the operating regulation is authorized under 33 CFR 117.35.

Dated: October 10, 2017.
Douglas Allen Blakemore, Sr.,
Bridge Administrator, Eight Coast Guard District.

[FR Doc. 2017-22292 Filed 10-13-17; 8:45 am]

BILLING CODE 9110-04-P